FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 29, 2015.

A. Federal Reserve Bank of Minneapolis (Jacquelyn K. Brunmeier, Assistant Vice President) 90 Hennepin Avenue, Minneapolis, Minnesota 55480-0291:

1. Sandra Holig and John Holig, trustees of Trust B, created under Article V of the Robert J. Holig Revocable Trust dated July 2, 1992, an Irrevocable Trust, all of Swanville, Minnesota; a group acting in concert, to acquire and retain voting shares of Swanville Bancshares, Inc., and thereby indirectly acquire and retain voting shares of First State Bank of Swanville, both in Swanville, Minnesota.

Board of Governors of the Federal Reserve System, July 9, 2015.
Michael J. Lewandowski,
Associate Secretary of the Board.

[FR Doc. 2015-17199 Filed 7-13-15; 8:45 am]

BILLING CODE 6210-01-P